FEDERAL COMMUNICATIONS COMMISSION

47 CFR Part 73

[DA 00-1555; MM Docket No. 00-129, RM-9909]

Radio Broadcasting Services; Moberly, Malta Bend & Chillicothe, MO

AGENCY: Federal Communications Commission.

ACTION: Proposed rule.

SUMMARY: This document requests comments on a petition filed by Best Broadcasting, Inc., requesting the substitution of Channel 247C2 for Channel 247C3 at Moberly and modification of the license for Station KCSX to specify operation on Channel 247C2. The coordinates for Channel 247C2 at Moberly are 39-27-41 and 92-21-03. To accommodate the substitution at Moberly, Best Broadcasting has also requested the substitution of Channel 280C3 for Channel 248C3 at Malta Bend, MO and modification of the license for Station KRLI and substitution of Channel 273A for Channel 280C3 at Chillicothe, MO and modification of the license for Station KCHI accordingly. The coordinates for Channel 280C3 at Malta Bend are 39-21-59 and 93-24-12. The coordinates for Channel 273A at Chillicothe are 39-45-56 and 93-33-14. In accordance with Section 1.420(g)(3) of the Commission's Rules, we will not accept competing expressions of interest for Channel 247C2 at Moberly.

DATES: Comments must be filed on or before August 28, 2000, and reply comments on or before September 12, 2000.

ADDRESSES: Federal Communications Commission, Washington, DC 20554. In addition to filing comments with the FCC, interested parties should serve the petitioner's counsel, as follows: John R. Wilner, Bryan Cave LLP, 700 13th Street, N.W., Suite 700, Washington, D.C. 20005.

FOR FURTHER INFORMATION CONTACT: Kathleen Scheuerle, Mass Media Bureau, (202) 418-2180.

SUPPLEMENTARY INFORMATION: This is a summary of the Commission's Notice of Proposed Rule Making, MM Docket No. 00-129, adopted July 5, 2000, and released July 14, 2000. The full text of this Commission decision is available for inspection and copying during normal business hours in the Commission's Reference Information Center, 445 12th Street, SW, Washington, DC. The complete text of this decision may also be purchased from the Commission's copy contractors, International Transcription Services, Inc., 1231 20th Street, NW., Washington, DC. 20036, (202) 857-3800, facsimile (202) 857-3805.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

Federal Communications Commission.
John A. Karousos,
Chief, Allocations Branch, Policy and Rules Division, Mass Media Bureau.

[FR Doc. 00-18753 Filed 7-24-00; 8:45 am]

BILLING CODE 6712-01-P